DEPARTMENT OF COMMERCE

International Trade Administration

[C-489-502, C-489-823, C-489-817, C-489-834]

Circular Welded Carbon Steel Standard Pipe and Tube Products From the Republic of Türkiye; Welded Line Pipe From the Republic of Türkiye; Certain Oil Tubular Goods From the Republic of Türkiye; and Large Diameter Welded Pipe From the Republic of Türkiye: Preliminary Results of Countervailing Duty Changed Circumstances Reviews

AGENCY: Enforcement and Compliance, International Trade Administration, Department of Commerce.

SUMMARY: The U.S. Department of Commerce (Commerce) preliminarily determines that Borusan Birleşik Boru Fabrikalari Sanayi ve Ticaret A.S. (Borusan Boru) is the successor-in-interest to Borusan Mannesmann Boru Sanayi ve Ticaret A.S. (BMB) in the context of the countervailing duty (CVD) orders on circular welded carbon steel standard pipe and tube products (standard pipe), welded line pipe (WLP), certain oil tubular goods (OCTG), and large diameter welded pipe (LDWP) from the Republic of Türkiye (Türkiye). Interested parties are invited to comment on these preliminary results.

DATES: Applicable September 10, 2024.

FOR FURTHER INFORMATION CONTACT: Ajay K. Menon, AD/CVD Operations, Office IX, Enforcement and Compliance, International Trade Administration, U.S. Department of Commerce, 1401 Constitution Avenue NW, Washington, DC 20230; telephone: (202) 482-0208.

SUPPLEMENTARY INFORMATION:

Background

On May 15, 1986, March 7, 1986, December 1, 2015, September 10, 2014, and May 2, 2019, respectively, Commerce published in the Federal Register CVD orders on standard pipe, WLP, OCTG, and LDWP.¹ On January 9, 2024, Borusan Boru requested that, pursuant to section 751(b)(1) of the Tariff Act of 1930, as amended (the Act), 19 CFR 351.216, and 19 CFR 351.221(c)(3), Commerce conduct expedited changed circumstances reviews (CCR) to determine that Borusan Boru is the successor-in-interest to BMB and, as a result of these determinations, to: (1) assign it the cash deposit rates currently applicable to BMB pursuant to Standard Pipe CVD Order, Welded Line Pipe CVD Order, and OCTG CVD Order; and (2) continue to exclude it from LDWP CVD Order.² In its request, Borusan Boru stated that it undertook an official, legal name change from Borusan Mannesmann Boru Sanayi ve Ticaret A.S. (BMB) to Borusan Birleşik Boru Fabrikalari Sanayi ve Ticaret A.S. (Borusan Boru) following the termination of its partnership with Salzgitter Mannesmann GmbH (Salzgitter) in 2023, but that the company experienced no significant changes which would impact the extent of its subsidization.³ No interested parties filed comments opposing the CCR request.

¹ See Countervailing Duty Order: Certain Welded Carbon Steel Pipe and Tube Products from Turkey, 51 FR 7984 (March 7, 1986) (Standard Pipe CVD Order); Welded Line Pipe from the Republic of Turkey: Countervailing Duty Order, 80 FR 75054 (December 1, 2015) (Welded Line Pipe CVD Order); Certain Oil Country Tubular Goods from India and the Republic of Turkey: Countervailing Duty Orders and Amended Affirmative Final Countervailing Duty Determination for India, 79 FR 53688 (September 10, 2014) (OCTG CVD Order); and Large Diameter Welded Pipe from the Republic of Turkey: Countervailing Duty Order, 84 FR 18771 (May 2, 2019) (LDWP CVD Order).

² See Borusan Boru's Letter, “Notification of Company Name Change and Request for Changed Circumstances Review, If Deemed Necessary: Name Change of Borusan Mannesmann Boru Sanayi ve Ticaret A.S. and Borusan Mannesmann Pipe U.S.,” dated January 8, 2024 (Borusan Boru's CCR Request).

³ Id. at 4.

On February 26, 2024, Commerce published the notice initiating these CCRs to consider whether Borusan Boru is the successor-in-interest to BMB.⁴ On April 22, 2024, we issued a supplemental questionnaire to Borusan Boru, to which we received a timely response on May 8, 2024.⁵

⁴ See Circular Welded Carbon Steel Standard Pipe and Tube Products from the Republic of Turkey; Welded Line Pipe from the Republic of Turkey; Certain Oil Tubular Goods from the Republic of Turkey; and Large Diameter Welded Pipe from the Republic of Turkey: Notice of Initiation of Antidumping Duty and Countervailing Duty Changed Circumstances Reviews, 89 FR 14052 (February 26, 2024) (Initiation Notice).

⁵ See Borusan Boru's Letter, “Supplemental Questionnaire Response,” dated May 8, 2024 (Borusan Boru's SQR).

Scope of the Orders

The merchandise covered by these orders is standard pipe, WLP, OCTG, and LDWP from Türkiye. For a complete description of the scope of each of these orders, see the appendix to this notice.⁶

⁶ See Standard Pipe CVD Order, 51 FR at 7984; Welded Line Pipe CVD Order, 80 FR at 75054; OCTG CVD Order, 79 FR at 53689l; and LDWP CVD Order, 84 FR at 18773.

Preliminary Results

In these CCRs, pursuant to section 751(b) of the Act, Commerce conducted a successor-in-interest analysis. In a CVD CCR, Commerce will normally make an affirmative successorship finding where there is no evidence of significant changes in the respondent's operations, ownership, and corporate or legal structure during the relevant period (i.e., the “look-back window”) that could have affected the respondent's subsidy levels.⁷ Where a significant change has occurred, Commerce will assess whether that change affects the nature and extent of the respondent's subsidization and, therefore, whether the respondent is the same subsidized entity as the predecessor, with reference to one or more of the following objective criteria: (1) continuity in the cross-owned or consolidated respondent company's financial assets and liabilities; (2) continuity in its production and commercial activities; and (3) continuity in the level of the government's involvement in the respondent's operations or financial structure.

⁷ See Certain Pasta from Turkey: Preliminary Results of Countervailing Duty Changed Circumstances Review, 74 FR 47225 (September 15, 2009) (Pasta from Türkiye), unchanged in Certain Pasta from Turkey: Notice of Final Results of Antidumping Duty Changed Circumstances Review, 74 FR 54022 (October 21, 2009). In this instance, the relevant look back period is December 31, 2022 (the end of the period of review associated with the most recent opportunity to request a review), to January 8, 2024 (the date of Borusan Boru's CCR request).

Where Commerce makes an affirmative CVD successorship finding, the successor's merchandise will be entitled to enter under the predecessor's cash deposit rate.⁸ Here, as detailed below, there is no evidence of significant changes between BMB and successor in interest in Borusan Boru's operations, ownership or corporate or legal structure during the look back period which could have impacted the successor in interest company's subsidy levels.⁹ That is, record evidence indicates that despite significant changes, Borusan Boru essentially operates as the same subsidized entity as its predecessor with respect to subject merchandise.

⁸ See Notice of Initiation and Preliminary Results of Changed Circumstances Reviews: Certain Passenger Vehicle and Light Truck Tires from the People's Republic of China, 85 FR 5193 (January 29, 2020), unchanged in Certain Passenger Vehicle and Light Truck Tires from the People's Republic of China: Final Results of Changed Circumstances Reviews, 85 FR 14638 (March 13, 2020).

⁹ See Borusan Boru's CCR Request; and Borusan Boru's SQR.

Continuity in Borusan Boru's Ownership

Borusan Boru provided documentation demonstrating that its ownership was unchanged during the “look-back window.” ¹⁰ However, Borusan Boru stated that the ownership of its majority shareholder, BMB Holding A.S. (BMBH), changed following the termination of BMBH's partnership with Salzgitter in November 2023.¹¹ According to Borusan Boru, in Salzgitter's place, Borusan Istikbal Ticaret T.A.S. (Borusan Istikbal), an existing affiliated company, became one of the owners of BMBH.¹² In recent proceedings, Commerce has examined, but did not attribute to BMB, subsidies received by Borusan Istikbal.¹³ Additionally, Borusan Boru stated that there were no changes with respect to the Government of Türkiye's (GOT) involvement with the Borusan Group of companies, including Borusan Istikbal.¹⁴ Therefore, consistent with Pasta from Türkiye, we determine that the inclusion of Borusan Istikbal in the ownership of BMBH does not constitute a significant change that could affect the extent of Borusan Boru's subsidization.

¹⁰ See Borusan Boru's SQR at 2 and Exhibits 14 and 15.

¹¹ Id. at 3 and Exhibit 17.

¹² Id.; see also Borusan Boru's CCR Request at Attachment 6.

¹³ See Circular Welded Carbon Steel Pipes and Tubes from the Republic of Turkey: Preliminary Results of Countervailing Duty Administrative Review and Intent To Rescind the Review, in Part; Calendar Year 2019, 86 FR 29754 (June 3, 2021), and accompanying Preliminary Decision Memorandum (PDM) at 6-7, unchanged in Circular Welded Carbon Steel Pipes and Tubes from the Republic of Turkey: Final Results and Rescission, in Part, of Countervailing Duty Administrative Review; Calendar Year 2019, 86 FR 67681 (November 29, 2021); see also Oil Country Tubular Goods from the Republic of Turkey: Preliminary Results of Countervailing Duty Administrative Review, Rescission in Part, and Intent To Rescind in Part; 2018, 86 FR 7069 (January 26, 2021), and accompanying PDM at 7-8, unchanged in Oil Country Tubular Goods from the Republic of Turkey: Final Results and Partial Rescission of Countervailing Duty Administrative Review; 2018, 88 FR 24842 (May 10, 2021); Circular Welded Carbon Steel Pipes and Tubes from the Republic of Turkey: Preliminary Results of Countervailing Duty Administrative Review and Partial Rescission; Calendar Year 2018, 85 FR 18917 (April 3, 2020), and accompanying PDM at 8-9 unchanged in Circular Welded Carbon Steel Pipes and Tubes from the Republic of Turkey: Final Results of Countervailing Duty Administrative Review; Calendar Year 2018, 86 FR 6866 (January 25, 2021).

¹⁴ See Borusan Boru's SQR at 1-2 and Exhibits 10-12.

Continuity in Borusan Boru's Operations

Borusan Boru provided information demonstrating that there were no significant changes in its suppliers or customer base during the “look-back window.” ¹⁵ Borusan Boru stated that it purchased the assets of Berg Steel, a U.S. company, during the “look-back window,” including production facilities in Mobile, Alabama, and Panama City, Florida.¹⁶ As stated in the Initiation Notice, Commerce does not assign cash deposit rates or calculate subsidy rates for U.S. companies and we do not measure subsidies received by U.S. companies.¹⁷ Therefore, we find that this change does not affect the extent of Borusan Boru's subsidization by the GOT.

¹⁵ Id. at 1-2.

¹⁶ Id. at 4 and Exhibit 19.

¹⁷ See Initiation Notice, 89 FR at 14053, footnote 2.

Continuity in Borusan Boru's Corporate and Legal Structure

Borusan Boru provided evidence demonstrating that that there were no significant changes to its legal structure during the “look-back window.” ¹⁸ Therefore, we determine that there were no significant changes that could have affected Borusan Boru's subsidization levels.

¹⁸ See Borusan Boru's SQR at 3.

Thus, record evidence preliminarily indicates that Borusan Boru is the successor-in-interest to BMB. In accordance with 19 CFR 351.216, we preliminarily determine that Borusan Boru is the successor-in-interest to BMB, based on the analysis of the information Borusan Boru provided in its CCR request and supplemental questionnaire response.

Accordingly, we preliminarily determine the Borusan Boru is entitled to the same CVD cash deposit rates as its predecessor for merchandise subject to the Standard Pipe CVD Order, Welded Line Pipe CVD Order, and OCTG CVD Order. We also preliminarily determine that Borusan Boru is entitled to its predecessor's exclusion from the LDWP CVD Order.¹⁹ Consequently, if this determination is unchanged in the final results, Commerce intends to instruct U.S. Customs and Border Protection (CBP) to collect estimated CVDs and suspend liquidation of all shipments of merchandise subject to the Standard Pipe CVD Order, Welded Line Pipe CVD Order, and OCTG CVD Order produced and/or exported by Borusan Boru and entered, or withdrawn from warehouse, for consumption on or after the publication date of the final results in the Federal Register at the rate assigned to BMB.²⁰ Further, Commerce will instruct CBP that Borusan Boru is entitled to its predecessor's exclusion from the LDWP CVD Order for entries of subject merchandise produced and exported by Borusan Boru. Lastly, the cash deposit requirements shall remain in effect until further notice.

¹⁹ BMB was excluded from the LDWP CVD Order. See LDWP CVD Order, 85 FR at 18773.

²⁰ The current rate for BMB under the Standard Pipe CVD Order is 0.83 percent. See Circular Welded Carbon Steel Pipes and Tubes from the Republic of Turkey: Final Results and Rescission, in Part, of Countervailing Duty Administrative Review; Calendar Year 2019, 86 FR 67681, 67682 (November 29, 2021). The current rate for BMB under the Welded Line Pipe CVD Order 0.78 percent. See Welded Line Pipe from the Republic of Turkey: Final Results of Countervailing Duty Administrative Review; 2015, 83 FR 34113, 34114 (July 19, 2028). The current rate for BMB under the OCTG CVD Order is 0.38 percent (de minimis). See Oil Country Tubular Goods from the Republic of Turkey: Final Results and Partial Rescission of Countervailing Duty Administrative Review; 2018, 86 FR 24842 (May 10, 2021).

Public Comment

Pursuant to 19 CFR 351.309(c)(1)(ii), interested parties may submit case briefs to Commerce no later than 30 days after the date of publication of this notice. Rebuttal briefs, limited to issues raised in the case briefs, may be filed not later than five days after the date for filing case briefs.²¹ Interested parties who submit case briefs or rebuttal briefs in this proceeding must submit: (1) a table of contents listing each issue; and (2) a table of authorities.²² All comments are to be filed electronically using Enforcement and Compliance's Antidumping and CVD Centralized Electronic Service System (ACCESS). ACCESS is available to registered users at https://access.trade.gov. An electronically filed document must be received successfully in its entirety by ACCESS by 5 p.m. Eastern Time on the day it is due.²³ Parties should file their case and rebuttal briefs on the record of each of the four CVD CCRs related to Borusan Boru's successor-in-interest request.

²¹ See 19 CFR 351.309(d); see also Administrative Protective Order, Service, and Other Procedures in Antidumping and Countervailing Duty Proceedings, 88 FR 67069, 67077 (September 29, 2023) (APO and Final Service Rule).

²² See 19 CFR 351.309(c)(2) and (d)(2).

²³ See 19 CFR 351.303(b).

As provided under 19 CFR 351.309(c)(2) and (d)(2), in prior proceedings we have encouraged interested parties to provide an executive summary of their brief that should be limited to five pages total, including footnotes. In this review, we instead request that interested parties provide at the beginning of their briefs a public, executive summary for each issue raised in their briefs.²⁴ Further, we request that interested parties limit their public executive summary of each issue to no more than 450 words, not including citations. We intend to use the public executive summaries as the basis of the comment summaries included in the issues and decision memorandum that will accompany the final results in this CCR. We request that interested parties include footnotes for relevant citations in the executive summary of each issue. Note that Commerce has amended certain of its requirements pertaining to the service of documents in 19 CFR 351.303(f).²⁵

²⁴ We use the term “issue” here to describe an argument that Commerce would normally address in a comment of the Issues and Decision Memorandum.

²⁵ See APO and Final Service Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Final Results

Consistent with 19 CFR 351.216(e), we will issue the final results of these CCRs no later than 270 days after the date on which these reviews were initiated, or within 45 days if all parties to the proceeding agree to our preliminary determination.

Notification to Interested Parties

We are issuing this notice in accordance with sections 751(b)(1) and 777(i) of the Act and 19 CFR 351.216(b) and 351.221(c)(3).

Dated: September 3, 2024.
Ryan Majerus,
Deputy Assistant Secretary for Policy and Negotiations, performing the non-exclusive functions and duties of the Assistant Secretary for Enforcement and Compliance.

Appendix

The Scope of the CVD Order on Circular Welded Carbon Steel Standard Pipe and Tube Products From the Republic of Türkiye

The products covered by this order are certain welded carbon steel pipe and tube with an outside diameter of 0.375 inch or more, but not over 16 inches, of any wall thickness (pipe and tube) from Turkey. These products are currently provided for under the Harmonized Tariff Schedule of the United States (HTSUS) as item numbers 7306.30.10, 7306.30.50, and 7306.90.10. Although the HTSUS subheadings are provided for convenience and customs purposes, the written description of the merchandise is dispositive.

The Scope of the CVD Order on Welded Line Pipe from the Republic of Türkiye

The merchandise covered by the order is circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of this investigation.

The welded line pipe that is subject to this order is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the order is dispositive.

The Scope of the CVD Order on Certain Oil Tubular Goods from the Republic of Türkiye. The merchandise covered by the order is oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the order also covers OCTG coupling stock.

Excluded from the scope of the order are: casing or tubing containing 10.5 percent or more by weight of chromium; drill pipe; unattached couplings; and unattached thread protectors.

The merchandise subject to the order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the order is dispositive.

The Scope of the CVD Order on Large Diameter Welded Pipe From the Republic of Türkiye

The merchandise covered by this order is welded carbon and alloy steel structural pipe (other than stainless steel pipe), more than 406.4 mm (16 inches) in nominal outside diameter (large diameter welded structural pipe), regardless of wall thickness, length, surface finish, grade, end finish, or stenciling. Large diameter welded structural pipe may be used for structural purposes, including, but not limited to, piling. Specifically, not included is large diameter welded pipe produced only to specifications of the American Water Works Association (AWWA) for water and sewage pipe.

Large diameter welded structural pipe may be produced to American Society for Testing and Materials (ASTM) standards A500, A252, or A53, or other relevant domestic specifications, grades and/or standards. Large diameter welded structural pipe can be produced to comparable foreign specifications, grades and/or standards or to proprietary specifications, grades and/or standards, or can be non-graded material. All structural pipe meeting the physical description set forth above, including any dual- or multiple-certified/stenciled pipe with an ASTM (or comparable) welded structural pipe certification/stencil, is covered by the scope of this order.

Subject merchandise also includes large diameter welded structural pipe that has been further processed in a third country, including but not limited to coating, painting, notching, beveling, cutting, punching, welding, or any other processing that would not otherwise remove the merchandise from the scope of the order if performed in the country of manufacture of the in-scope large diameter welded structural pipe.

Excluded from the scope of this order is line pipe which is suitable for transporting oil, gas, slurry, steam, or other fluids, liquids, or gases, and is normally produced to American Petroleum Institute (API) specification 5L or equivalent foreign specifications grades and/or standards or to proprietary specifications, grades and/or standards. Also excluded from the scope are any products covered by the existing countervailing duty order on welded line pipe from the Republic of Turkey. See Welded Line Pipe from the Republic of Turkey: Countervailing Duty Order, 80 FR 75054 (December 1, 2015).

The large diameter welded structural pipe that is subject to this order is currently classifiable in the Harmonized Tariff Schedule of the United States (HTSUS) under subheadings 7305.31.4000, 7305.31.6090, 7305.39.1000 and 7305.39.5000. Merchandise currently classifiable under subheadings 7305.11.1030, 7305.11.1060, 7305.11.5000, 7305.12.1030, 7305.12.1060, 7305.12.5000, 7305.19.1030, 7305.19.1060, and 7305.19.5000 and that otherwise meets the above scope language is also covered. While the HTSUS subheadings are provided for convenience and customs purposes, the written description of the scope of this order is dispositive.

[FR Doc. 2024-20397 Filed 9-9-24; 8:45 am]

BILLING CODE 3510-DS-P